DEPARTMENT OF EDUCATION

[Docket No.: ED-2018-ICCD-0108]

Agency Information Collection Activities; Comment Request; Carl D. Perkins Career and Technical Education Act State Plan

AGENCY: Office of Career, Technical, and Adult Education (OCTAE), Department of Education (ED).

ACTION: Notice.

SUMMARY: In accordance with the Paperwork Reduction Act of 1995, ED is proposing a revision of an existing information collection.

DATES: Interested persons are invited to submit comments on or before December 24, 2018.

ADDRESSES: To access and review all the documents related to the information collection listed in this notice, please use http://www.regulations.gov by searching the Docket ID number ED-2018-ICCD-0108. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 550 12th Street SW, PCP, Room 9088, Washington, DC 20202-0023.

FOR FURTHER INFORMATION CONTACT: For specific questions related to collection activities, please contact Braden Goetz, 202-245-7405.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Carl D. Perkins Career and Technical Education Act State Plan.

OMB Control Number: 1830-0029.

Type of Review: A revision of an existing information collection.

Respondents/Affected Public: State, Local, and Tribal Governments.

Total Estimated Number of Annual Responses: 54.

Total Estimated Number of Annual Burden Hours: 2,322.

Abstract: This information collection is used by the U.S. Department of Education to gather State plans from eligible agencies under the Carl D. Perkins Career and Technical Education Act, as amended by the Strengthening Career and Technical Education Act for the 21st Century Act (Pub. L. 115-224) (Perkins V or the Act). State plans consist of narrative information, budgets, and performance levels pursuant to the Act and applicable Federal regulations pursuant to the Uniform Guidance (2 CFR 200) and Education Department General Administrative Regulations (2 CFR 76). Eligible agencies are the State boards, or sole State agencies, responsible for career and technical education in the 50 States, the District of Columbia, Puerto Rico, and the outlying areas of the United States Virgin Islands, Guam, American Samoa, the Commonwealth of the Northern Marianas Islands, and the Republic of Palau.

Perkins V authorizes appropriations from Fiscal Year (FY) 2019 through FY 2024. Section 122(a) of Perkins V requires each eligible agency desiring assistance for any fiscal year under the Act to prepare and submit to the Secretary a State plan for a 4-year period, together with such annual revisions as the Act specifies or the eligible agency deems necessary. Eligible agencies may submit a 4-year State plan or, for FY 2019 only, a one-year transition plan followed by a 4-year plan. An eligible agency also may submit its State plan as part of a Combined State Plan under the Workforce Innovation and Opportunities Act of 2014 (WIOA).

Dated: October 18, 2018.
Tomakie Washington,
Acting Director, Information Collection Clearance Division, Office of the Chief Privacy Officer, Office of Management.

[FR Doc. 2018-23141 Filed 10-23-18; 8:45 am]

BILLING CODE 4000-01-P